DEPARTMENT OF COMMERCE

International Trade Administration

[C-570-963]

Certain Potassium Phosphate Salts From the People's Republic of China: Amended Final Affirmative Countervailing Duty Determination and Countervailing Duty Order

AGENCY: Import Administration, International Trade Administration, Department of Commerce.

SUMMARY: Based on affirmative final determinations by the Department of Commerce (the Department) and the U.S. International Trade Commission (ITC), the Department is issuing a countervailing duty order on certain potassium phosphate salts (phosphate salts) from the People's Republic of China (PRC).

DATES: Effective Date: July 22, 2010.

FOR FURTHER INFORMATION CONTACT: Andrew Huston, AD/CVD Operations, Office 6, Import Administration, International Trade Administration, U.S. Department of Commerce, 14th Street and Constitution Avenue, NW., Washington, DC 20230; telephone: (202) 482-4261.

SUPPLEMENTARY INFORMATION:

Background

In accordance with section 705(d) of the Tariff Act of 1930, as amended (the Act), on June 1, 2010, the Department published its final determination in the countervailing duty investigation of phosphate salts from the PRC. See Certain Potassium Phosphate Salts From the People's Republic of China: Final Affirmative Countervailing Duty Determination and Termination of Critical Circumstances Inquiry, 75 FR 30375 (June 1, 2010).

On July 15, 2010, the ITC notified the Department of its final determination, pursuant to section 705(b)(1)(A)(i) of the Act, that an industry in the United States is materially injured by reason of subsidized imports of subject merchandise from the PRC. See Certain Potassium Phosphate Salts From the People's Republic of China, USITC Publication 4171, Investigation Nos. 701-TA-473 and 731-TA-1173 (Final) (July 2010). Pursuant to section 706(a) of the Act, the Department is publishing a countervailing duty order on the subject merchandise.

Scope of the Order

The phosphate salts covered by this order include anhydrous Dipotassium Phosphate (DKP) and Tetrapotassium Pyrophosphate (TKPP), whether anhydrous or in solution (collectively “phosphate salts”).

TKPP, also known as normal potassium pyrophosphate, Diphosphoric acid or Tetrapotassium salt, is a potassium salt with the formula K4P2O7. The CAS registry number for TKPP is 7320-34-5. TKPP is typically 18.7% phosphorus and 47.3% potassium. It is generally greater than or equal to 43.0% P2O5 content. TKPP is classified under heading 2835.39.1000, Harmonized Tariff Schedule of the United States (HTSUS).

DKP, also known as Dipotassium salt, Dipotassium hydrogen orthophosphate or Potassium phosphate, dibasic, has a chemical formula of K2HPO4. The CAS registry number for DKP is 7758-11-4. DKP is typically 17.8% phosphorus, 44.8% potassium and 40% P2O5 content. DKP is classified under heading 2835.24.0000, HTSUS.

The products covered by this order include the foregoing phosphate salts in all grades, whether food grade or technical grade. The product covered by this order includes anhydrous DKP without regard to the physical form, whether crushed, granule, powder or fines. Also covered are all forms of TKPP, whether crushed, granule, powder, fines or solution.

For purposes of the order, the narrative description is dispositive, not the tariff heading, American Chemical Society, CAS registry number or CAS name, or the specific percentage chemical composition identified above.

Amendment to the Final Determination

Pursuant to the ITC's final determination, the scope of this investigation, and of this order, has changed. As noted above, the ITC reached a negative determination regarding Monopotassium Phosphate (MKP), a type of salt that was included within the scope of the investigation by the Department and in our final determination. As a result of this negative determination by the ITC, no order can be issued on imports of MKP from the PRC. Therefore, the scope language cited above has been amended from the Department's final determination to remove references to MKP. The rates established by the Department in the final determination were based on adverse facts available findings, none of which were specific to MKP. Thus, there have been no revisions to our final determination rates, or to any other aspect of our final determination, outside of the revised scope definition.

Countervailing Duty Order

On July 15, 2010, the ITC notified the Department of its final determination, pursuant to section 705(b)(1)(A)(i) of the Act, that an industry in the United States is materially injured as a result of subsidized imports of phosphate salts from the PRC. In its determination, the ITC found three domestic like products (DKP, TKPP, and MKP) covering the scope of subject merchandise subject to the investigation. The ITC made affirmative determinations with respect to DKP and TKPP, and a negative determination with respect to MKP. Since the ITC made different affirmative injury determinations for domestic like products, the Department must instruct U.S. Customs and Border Protection (CBP) to assess countervailing duties on entries of DKP and TKPP separately from MKP.

MKP

Because the ITC made a negative determination of material injury with respect to MKP, the Department will direct CBP to terminate the suspension of liquidation for entries of MKP from the PRC entered, or withdrawn from warehouse, and to release any bond or other security, and refund any cash deposit, posted to secure the payment of estimated countervailing duties with respect to these entries.

DKP and TKPP

Because the ITC determined that imports of DKP and TKPP from the PRC are materially injuring a U.S. industry, all unliquidated entries of such potassium phosphate salts from the PRC, entered or withdrawn from warehouse, are subject to the assessment of countervailing duties.

In accordance with section 706(a) of the Act, the Department will direct CBP to assess, upon further instruction by the Department, countervailing duties on all unliquidated relevant entries of potassium phosphate salts from the PRC entered, or withdrawn from warehouse, for consumption on or after March 8, 2010, the date on which the Department published its preliminary affirmative countervailing duty determination in the Federal Register, and before July 6, 2010, the date on which the Department instructed CBP to discontinue the suspension of liquidation in accordance with section 703(d) of the Act. See Certain Potassium Phosphate Salts from the People's Republic of China: Preliminary Affirmative Countervailing Duty Determination and Alignment of Final Countervailing Duty Determination with Final Antidumping Duty Determination, 75 FR 10466 (March 8, 2010). Section 703(d) of the Act states that the suspension of liquidation pursuant to a preliminary determination may not remain in effect for more than four months. Entries of potassium phosphate salts made on or after July 6, 2010, and prior to the date of publication of the ITC's final determination in the Federal Register, are not liable for the assessment of countervailing duties, due to the Department's discontinuation, effective July 6, 2010, of the suspension of liquidation.

In accordance with section 706 of the Act, the Department will direct CBP to reinstitute the suspension of liquidation for DKP and TKPP from the PRC, effective the date of publication of the ITC's notice of final determination in the Federal Register, and to assess, upon further advice by the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Producer/exporter | Subsidy rate
Lianyungang Mupro Import Export Co Ltd | 109.11 percent ad valorem.
Mianyang Aostar Phosphate Chemical Industry Co. Ltd | 109.11 percent ad valorem.
Shifang Anda Chemicals Co. Ltd | 109.11 percent ad valorem.
All-Others | 109.11 percent ad valorem.

This notice constitutes the countervailing duty order with respect to phosphate salts from the PRC pursuant to section 706(a) of the Act. Interested parties may contact the Department's Central Records Unit, Room 1117 of the main Commerce building, for copies of an updated list of countervailing duty orders currently in effect.

This notice is issued and published in accordance with sections 705(c)(2), 706(a) and 777(i)(1) of the Act, and 19 CFR 351.211.

Dated: July 19, 2010.
Ronald K. Lorentzen,
Deputy Assistant Secretary for Import Administration.

[FR Doc. 2010-18093 Filed 7-21-10; 8:45 am]

BILLING CODE 3510-DS-P